DEPARTMENT OF TRANSPORTATION

Federal Aviation Administration

14 CFR Part 39

[Docket No. 92-ANE-15-AD; Amendment 39-13916; AD 2004-26-04]

RIN 2120-AA64

Airworthiness Directives; Pratt & Whitney JT8D-200 Series Turbofan Engines; Correction

AGENCY: Federal Aviation Administration, DOT.

ACTION: Final rule; correction.

SUMMARY: This document makes a correction to Airworthiness Directive (AD) 2004-26-04. That AD applies to Pratt & Whitney (PW) JT8D-200 series turbofan engines. That AD was published in the Federal Register on January 5, 2005 (70 FR 677). This document corrects a compliance time in Table 1 of the AD. In all other respects, the original document remains the same.

DATES: Effective February 9, 2005.

FOR FURTHER INFORMATION CONTACT: Keith Lardie, Aerospace Engineer, Engine Certification Office, FAA, Engine and Propeller Directorate, 12 New England Executive Park, Burlington, MA 01803-5299; telephone (781) 238-7189; fax (781) 238-7199.

SUPPLEMENTARY INFORMATION: A final rule AD, FR Doc. 05-84, that applies to PW JT8D-200 series turbofan engines, was published in the Federal Register on January 5, 2005 (70 FR 677). The following correction is needed:

§ 39.13 [Corrected]

On page 678, in Table 1, right-hand column, “At the next engine shop visit after the effective date of this AD, but no later than December 31, 2004” is corrected to read “Before further flight”.

Issued in Burlington, MA, on January 14, 2005.
Francis A. Favara,
Acting Manager, Engine and Propeller Directorate, Aircraft Certification Service.

[FR Doc. 05-1215 Filed 1-21-05; 8:45 am]

BILLING CODE 4910-13-P